DEPARTMENT OF ENERGY

[OE Docket No. EA-349]

Application To Export Electric Energy; Bruce Power Inc.

AGENCY: Office of Electricity Delivery and Energy Reliability, DOE.

ACTION: Notice of application.

SUMMARY: Bruce Power Inc. has applied for authority to transmit electric energy from the United States to Canada pursuant to section 202(e) of the Federal Power Act.

DATES: Comments, protests, or requests to intervene must be submitted on or before March 27, 2009.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On February 3, 2009, DOE received an application from Bruce Power Inc. for authority to transmit electric energy from the United States to Canada as a power marketer using international transmission facilities located at the United States border with Canada. Bruce Power Inc. is incorporated under the Business Corporations Act (Ontario) and has its principal place of business in Tiverton, Ontario, Canada. Bruce Power Inc. does not own any electric transmission facilities nor does it hold a franchised service area. The electric energy which Bruce Power Inc. proposes to export to Canada would be surplus energy purchased from electric utilities, Federal power marketing agencies, and other entities within the United States. Bruce Power Inc. has requested an electricity export authorization with a 5-year term.

Bruce Power Inc. will arrange for the delivery of exports to Canada over the international transmission facilities owned by Bangor Hydro-Electric Company, Basin Electric Power Cooperative, Bonneville Power Administration, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company, Vermont Electric Power Company, and Vermont Electric Transmission Co.

The construction, operation, maintenance, and connection of each of the international transmission facilities to be utilized by Bruce Power Inc. have previously been authorized by a Presidential permit issued pursuant to Executive Order 10485, as amended.

Procedural Matters: Any person desiring to become a party to these proceedings or to be heard by filing comments or protests to this application should file a petition to intervene, comment, or protest at the address provided above in accordance with §§ 385.211 or 385.214 of the Federal Energy Regulatory Commission's Rules of Practice and Procedure (18 CFR 385.211, 385.214). Fifteen copies of each petition and protest should be filed with DOE on or before the date listed above.

Comments on the Bruce Power Inc. application to export electric energy to Canada should be clearly marked with Docket No. EA-349. Additional copies are to be filed directly with Richard Horrobin, Vice President of Power Marketing, Bruce Power L.P., 177 Tie Road, R.R. #2, P.O. Box 1540, Building B10, Tiverton, ON N0G 2T0 AND Brian Armstrong, Executive Vice President & General Counsel, Bruce Power L.P., 177 Tie Road, R.R. #2, P.O. Box 1540, Building B10, Tiverton, ON N0G 2T0. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.hopkins@hq.doe.gov.

Issued in Washington, DC, on February 18, 2009.
Anthony J. Como,
Director, Permitting and Siting, Office of Electricity Delivery and Energy Reliability.

[FR Doc. E9-4051 Filed 2-24-09; 8:45 am]

BILLING CODE 6450-01-P